DEPARTMENT OF JUSTICE

Antitrust Division

Notice Pursuant to the National Cooperative Research and Production Act of 1993—National Spectrum Consortium

Notice is hereby given that, on April 21, 2020, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Integration Innovation Inc. (i3), Huntsville, AL; Indiana Tool & Mfg. Co., Inc. DBA ITAMCO, Plymouth, IN; Knowledge Management Inc., Tyngsboro, MA; Simba Chain, Inc., Plymouth, IN; Summation Research, Inc., Melbourne, FL; AVANTech Inc., Columbia, SC; Cobalt Solutions Inc., Austin, TX; Zylinium Research LLC, Atlanta, GA; Augmntr, Inc., Grass Valley, CA; Electronic Design and Development Corp. (ED2), Tucson, AZ; Strategic Data Systems, Inc., Keller, TX; Systems & Technology Research, LLC, Woburn, MA; University at Buffalo, Buffalo, NY; Mavenir Systems, Inc., Richardson, TX; Institute for Building Technology and Safety (IBTS), Ashburn, VA; CIPHIR-TM, LLC, Albany, OR; CommScope Technologies LLC, Hickory, NC; XCOM-LABS, INC., San Diego, CA; Iron Bow Technologies, LLC, Herndon, VA; L3 Communications Systems-East, Camden, NJ; Logistics Management Institute (LMI), Tysons, VA; Ansys, Inc., Canonsburg, PA; Hanwha International LLC, Arlington, VA; CesiumAstro, Austin, TX; Conductive Composites Company, Heber City, UT; National Instruments Corporation, Austin, TX; Shipcom Federal Solutions, LLC, Belcamp, MD; Qorvo Texas, LLC, Richardson, TX; Technology Service Corporation (TSC), Arlington, VA; Huckworthy LLC, Washington, DC; AVT Simulation, Orlando, FL; Consolidated Resource Imaging LLC (CRI), Grand Rapids, MI; Global Technical Systems, Virginia Beach, VA; McKean Defense Group, Philadelphia, PA; PlusN, LLC, Elmsford, NY; and University of Virginia, Charlottesville, VA have been added as parties to this venture.

Also, Expedition Technology, Inc., Dulles, VA; Telspan Data, LLC, Concord, CA; and Red Balloon Security, Inc., New York, NY have withdrawn as parties from this venture.

No other changes have been made in either the membership or planned activity of the group research project. Membership in this group research project remains open and NSC intends to file additional written notifications disclosing all changes in membership.

On September 24, 2014, NSC filed its original notification pursuant to Section 6(a) of the Act. The Department of Justice published a notice in the Federal Register pursuant to Section 6(b) of the Act on November 4, 2014 (72 FR 65424).

The last notification was filed with the Department on January 21, 2020. A notice was published in the Federal Register pursuant to Section 6(b) of the Act on February 27, 2020 (85 FR 11396).

Suzanne Morris,
Chief, Premerger and Division Statistics Unit, Antitrust Division.

[FR Doc. 2020-09664 Filed 5-5-20; 8:45 am]

BILLING CODE 4410-11-P